DEPARTMENT OF HEALTH AND HUMAN SERVICES

Centers for Disease Control and Prevention

[Docket Number CDC-2015-0008; NIOSH-282]

International Labour Office (ILO) Reference Radiographs; Reopening of Comment Period

AGENCY: National Institute for Occupational Safety and Health (NIOSH) of the Centers for Disease Control and Prevention (CDC), Department of Health and Human Services (HHS).

ACTION: Notice and reopening of comment period.

SUMMARY: On April 6, 2015, the Director of the National Institute for Occupational Safety and Health (NIOSH) of the Centers for Disease Control and Prevention (CDC), published a notice in the Federal Register [80 FR 18427] announcing a collaboration with the Labour Inspection, Labour Administration and Occupational Safety and Health Branch of the International Labour Office (ILO) in developing a set of digital reference radiographs for the ILO International Classification of Radiographs of Pneumoconiosis (ILO Classification). Today we are announcing the re-opening of the public comment period for an additional 60 days.

DATES: Comments will be accepted through 11:59 p.m. January 4, 2016.

ADDRESSES: You may submit comments, identified by CDC-2015-0008 and docket number NIOSH-282, by any of the following methods:

• Federal eRulemaking Portal: www.regulations.gov Follow the instructions for submitting comments.

• Mail: National Institute for Occupational Safety and Health, NIOSH Docket Office, 1090 Tusculum Avenue MS C-34, Cincinnati, Ohio 45226-1998.

FOR FURTHER INFORMATION CONTACT: Michael Attfield, NIOSH/Respiratory Health Division (RHD), 1095 Willowdale Road, Morgantown, WV 26505-2888, telephone (304) 285-5737 (this is not a toll free number).

SUPPLEMENTARY INFORMATION: The current ILO Classification depends on 22 standard reference radiographs that are used to formally identify and characterize pneumoconiosis and related pulmonary abnormalities arising from occupational exposure. The original standards were based on film radiography, but the advent of digital radiography has led to the need for reference standards based on digitally-acquired images. NIOSH is assisting the ILO in the process of identifying such digital images.

For this purpose, NIOSH requested trained users of the ILO Classification to submit comments regarding any of the current ILO standard reference images that are felt to be deficient and for which improvements could be made. Note that NIOSH is not soliciting comments on the structure and format of the current ILO Classification; these are to remain unchanged at the present time. For this reason, comments received on the ILO Classification as a whole will be considered irrelevant to the purpose of this docket. This request for comments has been reopened at the request of the ILO.

Dated: October 29, 2015.
John Howard,
Director, National Institute for Occupational Safety and Health, Centers for Disease Control and Prevention.

[FR Doc. 2015-28047 Filed 11-3-15; 8:45 am]

BILLING CODE 4163-19-P